INTERNATIONAL TRADE COMMISSION

Privacy Act of 1974, as Amended; Revisions to Existing Systems of Records

AGENCY: United States International Trade Commission.

ACTION: Notice of proposed addition of a new routine use and other changes to existing systems of records; request for comments on proposed revisions of systems of records.

SUMMARY: The U.S. International Trade Commission (“Commission”) previously published notices describing the systems of records it maintains pursuant to the Privacy Act of 1974. The Commission is issuing notice of its intent to revise the existing systems of records entitled “Personnel Security Investigative Files,” “Library Circulation Records,” “Administrative Protective Order Breach and Related Records,” and “Emergency Notification Records.”

The Commission issues this notice to satisfy the Privacy Act's requirement to publish in the Federal Register notice of the existence and character of records systems maintained by the Commission and of any new use or intended use of information in the Commission's systems of records.

DATES: Written comments must be received by the Secretary no later than August 6, 2007. The proposed revisions to the Commission's systems of records will become effective on that date unless otherwise published in the Federal Register.

ADDRESSES: Comments should be directed to the Secretary, U.S. International Trade Commission, 500 E Street, SW., Washington, DC 20436.

FOR FURTHER INFORMATION CONTACT: Patrick V. Gallagher, Esq., Office of the General Counsel, U.S. International Trade Commission, 500 E Street, SW., Washington, DC 20436 or tel. 202-205-3152. Hearing-impaired persons can obtain information on this matter by contacting the Commission's TDD terminal on 202-205-1810. Persons with mobility impairments who will need special assistance in gaining access to the Commission should contact the Office of the Secretary at 202-205-2000.

SUPPLEMENTARY INFORMATION: Pursuant to the Privacy Act of 1974 (5 U.S.C. 552a(e)(4), (11)), the Commission proposes to revise the descriptions of four systems of records. The Commission previously published notice of these systems of records at 71 FR 35294 (June 19, 2006). The Commission invites interested persons to submit comments on the actions proposed in this notice.

The Commission proposes to revise the system of records designated as ITC-7 (Personnel Security Investigative Files) to include contractors, subcontractors, and consultants as individuals covered by the system and to delete “Federal employee relatives” as a category.

The Commission also proposes to revise the name of the location for the system of records designated as ITC-8 (Library Circulation Records) to “Knowledge Resources (“Main Library”).” This change is clerical and no other change to this system of records has been made by this notice.

In addition, the Commission proposes to revise two routine uses in the system of records designated as ITC-13 (Administrative Protective Order Breach and Related Records). This system of records reflects agency practice in the handling of investigations into alleged breaches of administrative protective orders (“APOs”) and alleged grounds for sanctions under § 201.15 of Commission's Rules of Practice and Procedure. The first revised routine use would allow for the public disclosure of any records necessary to facilitate the recovery of business proprietary information or confidential business information which had been submitted in a Commission proceeding and which had been disclosed. The second revision would permit limited disclosure of information necessary to facilitate participation of all parties in an APO breach investigation. This revised use would ensure that the Commission's rules governing participation in APO breach investigations and the Commission's Privacy Act policy were not inconsistent.

The Commission also proposes to revise the system of records designated as ITC-16 (Emergency Notification Records). This system of records assists the Commission in notifying and identifying employees or their designees in emergency situations. The revision would add the non-ITC electronic mail address of an employee or the employee's designee to the list of categories of records maintained in this system to better assist the Commission in notifying and identifying employees or their designees in emergency situations.

As required by subsection 552a(r) of the Privacy Act of 1974 (5 U.S.C. 552a(r)), the proposed revisions will be reported to the Office of Management and Budget, the Chair of the Committee on Oversight and Government Reform of the House of Representatives, and the Chair of the Committee on Homeland Security and Governmental Affairs of the Senate.

ITC-7

SYSTEM NAME:

Personnel Security Investigative Files.

SYSTEM LOCATION:

Office of Human Resources, U.S. International Trade Commission, 500 E Street, SW., Washington, DC 20436.

CATEGORIES OF INDIVIDUALS COVERED BY THE SYSTEM:

All current and former employees; all applicants for employment; and contractors, subcontractors, and consultants.

CATEGORIES OF RECORDS IN THE SYSTEM:

This system contains records relating to name, date of birth, place of birth, Social Security Number, citizenship, fingerprints, credit references, credit records, education, arrest records, dates and purposes of visits to foreign countries, passport number(s), names of spouse(s), names of relatives, names of references, date(s) of appointment, position title(s), grade, duty station(s), Office of Human Resources file folder location, type of clearance granted, clearance date, clearance termination date, suitability date, investigation basis, investigation completion date, background investigation update and upgrade information, Commission termination date, security briefing data, and security investigator's notes on information gathered during the investigation.

AUTHORITY FOR MAINTENANCE OF THE SYSTEM:

Authority for maintenance of the system includes the following with any revisions or amendments: Executive Order 10450; 19 U.S.C. 1331(a)(1)(A)(iii).

PURPOSE(S):

Records in this system are used to: determine whether to issue security clearances; provide a current record of Commission employees with security clearance(s); and provide access cards and keys to Commission buildings and offices.

ROUTINE USES OF RECORDS MAINTAINED IN THE SYSTEM, INCLUDING CATEGORIES OF USERS, AND THE PURPOSES OF SUCH USES:

General Routine Uses A-C and E-K apply to this system.

Relevant information in this system may be disclosed as necessary to other Federal agencies or Federal contractors with statutory authority to assist in the collection of Commission debts.

DISCLOSURE TO CONSUMER REPORTING AGENCIES:

Disclosures may be made from this system pursuant to 5 U.S.C. 552a(b)(12) and 31 U.S.C. 3711(f) to “consumer reporting agencies” as defined in 31 U.S.C. 3701(a)(3).

POLICIES AND PRACTICES FOR STORING, RETRIEVING, ACCESSING, RETAINING, AND DISPOSING OF RECORDS IN THE SYSTEM:

STORAGE:

These records are maintained on paper in file folders.

RETRIEVABILITY:

These records are retrieved by name.

SAFEGUARDS:

These records are maintained in a building with restricted public access. The records in this system are kept in locked file cabinets in a limited access area within the building. Access is limited to persons whose official duties require access.

RETENTION AND DISPOSAL:

These records will be retained not later than five years after separation or transfer of employee in accordance with the NARA's General Records Schedule 18. Records will be disposed of in a secure manner.

SYSTEM MANAGER(S) AND ADDRESS:

Director, Office of Administration, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable); and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting access must comply with the Commission's Privacy Act regulations on verification of identity (19 CFR 201.25).

Contesting Record Procedure:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting amendment must comply with the Commission's Privacy Act regulations on verification of identity (19 CFR 201.25).

Record Source Categories:

Information is obtained from the individual on whom record is maintained; Office of Personnel Management; and any contractor who has been retained by the Commission to conduct background investigations.

Systems Exempted from Certain Provisions of the Act:

Pursuant to 5 U.S.C. 552a(k)(1), (k)(5) and (k)(6), this system of records is exempted from (c)(3), (d), (e)(1), (e)(4)(G)-(I) and (f) of the Privacy Act. These exemptions are established in the Commission rules at 19 CFR 201.32.

ITC-8

System Name:

Library Circulation Records.

System Location:

Knowledge Resources (“Main Library”), U.S. International Trade Commission, 500 E Street, SW., Washington, DC 20436.

Categories of Individuals Covered by the System:

All Commission employees who have borrowed materials from the Library.

Categories of Records in the System:

This system contains records relating to titles and other identifying data on materials borrowed from the Library, and agency, office, office telephone number, and office room number of borrower, and the scheduled return date for each item borrowed.

Authority for Maintenance of the System:

Authority for maintenance of the system includes the following with any revisions or amendments: 40 U.S.C. 524(a); 19 U.S.C. 1331(a)(1)(A)(iii).

Purpose(s):

Records in this system are used to locate Library materials in circulation and to control and inventory Library materials loaned.

Routine Uses of Records Maintained in the System, Including Categories of Users, and the Purposes of Such Uses:

General Routine Uses E, H, I, and L apply to this system.

Relevant information in this system may be disclosed as necessary to other Federal agencies or Federal contractors with statutory authority to assist in the collection of Commission debts.

Disclosure to Consumer Reporting Agencies:

Disclosures may be made from this system pursuant to 5 U.S.C. 552a(b)(12) and 31 U.S.C. 3711(e) to “consumer reporting agencies” as defined in 31 U.S.C. 3701(a)(3).

Policies and Practices For Storing, Retrieving, Accessing, Retaining, and Disposing Of Records in the System:

Storage:

These records are maintained on computer media on an internal Commission system and on paper in an index system.

Retrievability:

These records are retrieved by name, by title of item borrowed, and by call number.

Safeguards:

These records are maintained in a building with restricted public access. The records in this system are in a limited access area within the building. The paper records are kept within the control of Library staff during working hours and in a locked area at other times. The computer files can only be accessed by authorized individuals.

Retention and Disposal:

These records are maintained until the borrowed material is returned or until an employee is no longer employed at the Commission. Records will be disposed of in a secure manner.

System Manager(s) and Address:

Chief, Library Services, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment; and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment; and

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment; and

4. Signature.

Individuals requesting amendment must comply with the Commission's Privacy Act regulations on verification of identity (19 CFR 201.25).

RECORD SOURCE CATEGORIES:

Information is obtained from the individual who borrows materials, from library records on materials borrowed, and from the Commission telephone directory.

ITC-13

SYSTEM NAME:

Administrative Protective Order Breach and Related Records.

SYSTEM LOCATION:

Office of the Secretary, U.S. International Trade Commission, 500 E Street, SW., Washington, DC 20436, and other Commission offices.

CATEGORIES OF INDIVIDUALS COVERED BY THE SYSTEM:

Persons subject to investigations of alleged breaches of administrative protective orders and/or investigations of whether there is good cause to sanction persons under section 201.15 of the Commission's Rules of Practice and Procedure (19 CFR 201.15).

CATEGORIES OF RECORDS IN THE SYSTEM:

This system contains records relating to a person's name, firm, address, the basis for the investigation, the Commission's determinations with respect to the facts of the investigation, and any sanctions or other actions taken in response to the agency's determinations.

AUTHORITY FOR MAINTENANCE OF THE SYSTEM:

Authority for maintenance of the system includes the following with any revisions or amendments: 19 U.S.C. 1337, 1677f, 2252, 2451, and 2451a.

PURPOSE(S):

Records in this system are used to determine whether a person has breached an administrative protective order and/or should be sanctioned.

ROUTINE USES OF RECORDS MAINTAINED IN THE SYSTEM, INCLUDING CATEGORIES OF USERS, AND THE PURPOSES OF SUCH USES:

General Routine Uses A-C and E-K apply to this system.

Relevant information in this system may be disclosed to the public as necessary where the Commission determines that a public sanction is warranted or where the Commission determines that such disclosure is necessary to facilitate the recovery of business proprietary information or confidential business information which has been disclosed to unauthorized persons.

Information from this system of records concerning one person may be disclosed to other persons subject to the same Administrative Protective Order (“APO”) breach investigation and to other parties participating in the underlying trade remedy proceeding.

POLICIES AND PRACTICES FOR STORING, RETRIEVING, ACCESSING, RETAINING, AND DISPOSING OF RECORDS IN THE SYSTEM:

STORAGE:

These records are maintained on magnetic disk or other electronic data storage media.

RETRIEVABILITY:

These records are retrieved by name.

SAFEGUARDS:

These records are maintained in a building with restricted public access. The records in this system are kept in computers equipped with access controls in limited access areas within the building. Access is limited to persons whose official duties require access.

RETENTION AND DISPOSAL:

These records will be retained no later than ten years after an investigation is closed in accordance with the Commission's Records Disposition Schedule. Records will be disposed of in a secure manner.

SYSTEM MANAGER(S) AND ADDRESS:

Secretary, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish their full name and signature for their records to be located and identified.

RECORD ACCESS PROCEDURE:

Individuals wishing to request access to their records should contact the Privacy Act Officer, Office of the Secretary, U.S. International Trade Commission, 500 E Street, SW., Washington, DC 20436.

Individuals must furnish their full name and signature for their records to be located and identified.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish their full name and signature for their records to be located and identified.

Individuals requesting amendment must comply with the Commission's Privacy Act regulations on verification of identity (19 CFR 201.25).

RECORD SOURCE CATEGORIES:

Information in this system comes from the individual on whom the record is maintained and investigative records compiled by Commission staff.

ITC-16

SYSTEM NAME:

Emergency Notification Records.

SYSTEM LOCATION:

The various offices within the U.S. International Trade Commission, 500 E Street, SW., Washington, DC 20436.

CATEGORIES OF INDIVIDUALS COVERED BY THE SYSTEM:

All current Commission employees.

CATEGORIES OF RECORDS IN THE SYSTEM:

This system contains records relating to a person's name, title, office, Commission and non-Commission electronic mail addresses, and telephone number, as well as the name, address, non-Commission electronic mail address, and telephone number of the employee's designated emergency contact.

AUTHORITY FOR MAINTENANCE OF THE SYSTEM:

Authority for maintenance of the system includes the following with any revisions or amendments: 19 U.S.C. 1331(a)(1)(A)(iii); 44 U.S.C. 3101; and Presidential Decision Directive 67, Ensuring Constitutional Government and Continuity of Government Operations.

PURPOSE(S):

Records are maintained in this system for the purpose of notifying and identifying employees or their designees under emergency conditions.

ROUTINE USES OF RECORDS MAINTAINED IN THE SYSTEM, INCLUDING CATEGORIES OF USERS, AND THE PURPOSES OF SUCH USES:

General Routine Uses A-C and E-L apply to this system.

POLICIES AND PRACTICES FOR STORING, RETRIEVING, ACCESSING, RETAINING, AND DISPOSING OF RECORDS IN THE SYSTEM:

STORAGE:

These records are maintained on paper in file folders in internal Commission offices and on computer media on an internal Commission system.

RETRIEVABILITY:

These records are retrieved by name.

SAFEGUARDS:

These records are maintained in a building with restricted public access. The records in this system are in a limited access area within the building. Access is limited to persons whose official duties require access.

RETENTION AND DISPOSAL:

Emergency Notification Records will be maintained for the duration of an individual's employment with the Commission. Records will be disposed of in a secure manner.

SYSTEM MANAGER(S) AND ADDRESS:

Director, Office of Human Resources, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable);

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting amendment must comply with the Commission's Privacy Act regulations on verification of identity (19 CFR 201.25).

RECORD SOURCE CATEGORIES:

Information is obtained from the individual to whom the records pertain.

Issued: June 20, 2007.
By order of the Commission.
Marilyn R. Abbott,
Secretary to the Commission.

[FR Doc. E7-12318 Filed 6-25-07; 8:45 am]

BILLING CODE 7020-02-P